DEPARTMENT OF ENERGY

Federal Energy Regulatory Commission

[Docket No. IC10-725E-001]

Commission Information Collection Activities (FERC-725E); Comment Request; Submitted for OMB Review

September 3, 2010.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission issued a Notice in the Federal Register (75 FR 35002, 6/21/2010) requesting public comments. FERC received no comments on the FERC-725E and has made this notation in its submission to OMB.

DATES: Comments on the collection of information are due by October 15, 2010.

ADDRESSES: Address comments on the collection of information to the Office of Management and Budget, Office of Information and Regulatory Affairs, Attention: Federal Energy Regulatory Commission Desk Officer. Comments to Created by OMB should be filed electronically, c/o oira__submission@omb.eop.gov and include the OMB Control Number 1902-0246 for reference. The Desk Officer may be reached by telephone at 202-395-4638.

A copy of the comments should also be sent to the Federal Energy Regulatory Commission and should refer to Docket No. IC10-725E-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to Docket No. IC10-725E-001.

Users interested in receiving automatic notification of activity in FERC Docket Number IC10-725E may do so through eSubscription at http://www.ferc.gov/docs-filing/esubscription.asp. All comments may be viewed, printed or downloaded remotely via the Internet through FERC's homepage using the “eLibrary” link. For user assistance, contact ferconlinesupport@ferc.gov or toll-free at (866) 208-3676, or for TTY, contact (202) 502-8659.

FOR FURTHER INFORMATION: Ellen Brown may be reached by e-mail at DataClearance@FERC.gov, by telephone at (202) 502-8663, and by fax at (202) 273-0873.

SUPPLEMENTARY INFORMATION: Action: The Commission is requesting a three-year extension of the information collected by the FERC-725E (OMB Control No. 1902-0246). The information is required to implement the statutory provisions of section 215 of the Federal Power Act (FPA) (16 U.S.C. 824o). Section 215 of the FPA buttresses the Commission's efforts to strengthen the reliability of the interstate grid through the granting of authority to provide for a system of mandatory Reliability Standards developed by the Electric Reliability Organization (ERO). Reliability Standards that the ERO proposes to the Commission may include Reliability Standards that are proposed to the ERO by a Regional Entity.¹ A Regional Entity is an entity that has been approved by the Commission to enforce Reliability Standards under delegated authority from the ERO.² On June 8, 2008 in an adjudicatory order, the Commission approved eight regional Reliability Standards submitted by the ERO as proposed by the Western Electricity Coordinating Council (WECC).³

¹ 16 U.S.C. 824o(e)(4).

² 16 U.S.C. 824o(a)(7) and (e)(4).

³ 72 FR 33462, June 18, 2007.

WECC is responsible for coordinating and promoting electric system reliability. In addition to promoting a reliable electric power system in the Western Interconnection, WECC supports efficient competitive power markets, ensures open and non-discriminatory transmission access among members, and provides a forum for resolving transmission access disputes plus the coordination of operating and planning activities of its members. WECC and the eight other regional reliability councils were formed due to a national concern regarding the reliability of the interconnected bulk power systems, the ability to operate these systems without widespread failures in electric service and the need to foster the preservation of reliability through a formal organization. The eight regional Reliability Standards are translations of existing reliability criteria and are now binding on the applicable subset of users, owners and operators of the Bulk Power System in the United States portion of the Western Interconnection. The Commission's reporting requirements are found in 18 CFR Part 40.

The eight Reliability Standards do not require responsible entities to file information with the Commission. However, the standards do require responsible entities to file periodic reports with WECC and to develop and maintain certain information for a specified period of time, subject to inspection by WECC. Specifically the eight Reliability Standards require the following:

WECC-BAL-STD-002-0—balancing authorities and reserve sharing groups are to submit to WECC quarterly reports on operating reserves as well as reports after any instance of non-compliance.

WECC-IRO-STD-006-0—transmission operators, balancing authorities and loadserving entities are to document and report to WECC actions taken in response to direction to mitigate unscheduled flow. The standard also requires transmission operators to document required actions that are and are not taken by responsible entities.

WECC- PRC-STD-001-1—certain transmission operators are to submit to WECC annual certifications of protective equipment.

WECC-PRC-STD-003-1—certain transmission operators are to report to WECC any misoperation of relays and remedial action schemes.

WECC-PRCSTD-005-1—certain transmission operators are to maintain, in stated form, maintenance and inspection records pertaining to their transmission facilities. The standard also requires operators to certify to WECC that the operator is maintaining the required records.

WECCTOP-STD-007-0—certain transmission operators are to submit to WECC quarterly reports on transfer capability data and compliance as well as reports after an instance of non-compliance.

WECC-VAR-STD-002a-1 and WECC-VAR-STD-002b-1—certain generators are to submit quarterly reports to WECC on automatic voltage control and power system stabilizers. All of the foregoing regional Reliability Standards require the reporting entity to retain relevant data in electronic form for one year or for a longer period if the data is relevant to a dispute or potential penalty, except that WECC-PRC-STD-005-1 requires retention of maintenance and inspection records for five years and retention of other data for four years.

The Commission uses the data to participate in North American Electric Reliability Council's (NERC's) Reliability readiness reviews of balancing authorities, transmission operators and reliability coordinators in North America to determine their readiness to maintain safe and reliable operations. In addition, FERC's Office of Electric Reliability uses the data to engage in studies and other activities to assess the longer-term and strategic needs and issues related to power grid reliability.

Burden Statement: The estimated annual burden follows.

FERC data collection | Number of respondents | Average No. of reponses per respondent | Average burden hours per response | Total burden hours
| (1) | (2) | (3) | (1)×(2)×(3)
FERC-725E Reporting:
Balancing Authorities | 34 | 1 | 20 | 680
Generator Operators | 206 | 1 | 10 | 2,060
Load-Serving Entities | 149 | 1 | 10 | 1,490
Transmission Operators/Owners | 83 | ¹ | 40 | 3,320
Subtotal |  |  |  | 7,550
Record-keeping | Balancing Authorities |  |  | 68
| Generator Operators |  |  | 206
| Load-Serving Entities |  |  | 149
| Transmission Owners/Operators |  |  | 332
Totals |  | 755
¹ 1-7 each (total of 83).

Total Annual hours for the Information Collection: 7,550 reporting hours + 755 recordkeeping = 8,305 hours.

The total estimated annual cost burden to respondents is $ 936,200.⁴

⁴ Reporting = 7,550 hours @ $120/hour = $906,000, Recordkeeping = 755 hours @ $40/hour = $30,200. Total Costs = Reporting ($906,000) + Recordkeeping ($30,200) = $936,200

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2010-22936 Filed 9-14-10; 8:45 am]

BILLING CODE 6717-01-P